DEPARTMENT OF HOMELAND SECURITY

Coast Guard

33 CFR Part 100

[Docket No. USCG-2024-0368]

Special Local Regulations; Marine Events Within the Sector Columbia River Captain of the Port Zone

AGENCY: Coast Guard, DHS.

ACTION: Notification of enforcement of regulation.

SUMMARY: The Coast Guard will enforce special local regulations at various locations in the Sector Columbia River Captain of the Port Zone from May 31, 2024, to September 7, 2024. This action is necessary to provide for the safety of life and property on these navigable waters during marine events. During the enforcement periods, the operator of any vessel in the regulated area must comply with the directions from the Patrol Commander or any official patrol vessel.

DATES: The regulations in 33 CFR 100.1302 will be enforced for the regulated areas identified in the SUPPLEMENTARY INFORMATION section below for the dates and times specified.

FOR FURTHER INFORMATION CONTACT: If you have questions about this notice of enforcement, call or email Lieutenant Carlie Gilligan, Waterways Management Division, Sector Columbia River, Coast Guard; telephone 503-240-9319, email SCRWWM@USCG.MIL.

SUPPLEMENTARY INFORMATION: The Coast Guard will enforce special local regulations in 33 CFR 100.1302 for the following events during the hours specified on the dates listed in the following table:

Table—Dates and Times of Enforcement of 33 CFR 100.1302 Special Local Regulations at Various Locations in the Sector Columbia River Captain of the Port Zone in 2024
No. | Date | Event | Location
1 | May 31, 2024, from 5:30 a.m. to 6:30 p.m | Spring Testing Hydroplane races | Kennewick, WA, Regulated area includes all navigable waters within the Columbia River in the vicinity of Columbia Park, commencing at the Interstate 395 Bridge and continuing upriver approximately 2.0 miles and terminating at the northern end of Wade Island.
2 | June 8, 2024, through June 9, 2024, from 6:30 a.m. to 6:30 p.m | Rose Fest Dragon Boat Races | Portland, OR. Regulated area includes all waters of the Willamette River shore to shore, bordered on the north by the Hawthorne Bridge, and on the south by the Marquam Bridge.
3 | June 15, 2024, through June 16, 2024, from 7:30 a.m. to 6:30 p.m | Richland Regatta | Richland, WA. Regulated area includes all navigable waters of the Columbia River in the vicinity of Howard Amon Park, between River Miles 337 and 338.
4 | July 13, 2024, from 8:30 a.m. to 7:30 p.m | The Big Float, group inner-tube float | Portland, OR. Regulated area includes all navigable waters of the Willamette River, in Portland, Oregon, enclosed by the Hawthorne Bridge, the Marquam Bridge, and west of a line beginning at the Hawthorne Bridge at approximate location 45°30′50″ N.; 122°40′21″ W., and running south to the Marquam Bridge at approximate location 45°30′27″ N.; 122°40′11″ W.
5 | July 26, 2024, through July 28, 2024, from 5:30 a.m. to 6:30 p.m | Kennewick Hydroplane Races | Kennewick, WA. Regulated area includes all navigable waters within the Columbia River in the vicinity of Columbia Park, commencing at the Interstate 395 Bridge and continuing upriver approximately 2.0 miles and terminating at the northern end of Wade Island.
6 | August 10, 2024, from 10:30 a.m. to 1:30 p.m | Swim the Snake | Perry, WA. Regulated area includes all navigable waters, bank-to-bank of the Snake River, 500 yards upstream and 500 yards downstream from the Washington State Highway 261 Bridge at the approximate position of 46°35′23″ N.; 118°13′10″ W.
7 | September 7, 2024, from 7:30 a.m. to 11:30 a.m | Columbia Crossing Swim | Pasco, WA. Regulated area includes all navigable waters, bank-to-bank of the Columbia River in Pasco, Washington, between river mile 332 and river mile 335.

All coordinates are listed in the table reference Datum NAD 1983.

During the enforcement periods, as reflected in § 100.1302, if you are the operator of a vessel in the regulated area you must comply with directions from the Patrol Commander or any official patrol vessel. Vessels may not transit the regulated areas without approval from the Patrol Commander. Vessels permitted to transit must operate at a no wake speed, in a manner which will not endanger participants or other crafts in the event. Spectators or other vessels shall not anchor, block, loiter, or impede the transit of event participants or official patrol vessels in the regulated areas during the effective dates and times, or dates and times as modified through Local Notice to Mariners, unless authorized by an official patrol vessel. In addition to this notice of enforcement in the Federal Register, the Coast Guard will provide notification of these enforcement periods via the Local Notice to Mariners and marine information broadcasts.

Dated: May 13, 2024.
J.W. Noggle,
Captain, U.S. Coast Guard, Captain of the Port Sector Columbia River.

[FR Doc. 2024-10941 Filed 5-17-24; 8:45 am]

BILLING CODE 9110-04-P